DEPARTMENT OF AGRICULTURE

Animal and Plant Health Inspection Service

[Docket No. APHIS-2022-0055]

Notice of Availability of a Draft Programmatic Environmental Impact Statement for Outbreak Response Activities for Highly Pathogenic Avian Influenza Outbreaks in Poultry in the United States and U.S. Territories

AGENCY: Animal and Plant Health Inspection Service, USDA.

ACTION: Notice of availability; reopening of comment period.

SUMMARY: We are reopening the comment period for our notice advising the public that a draft programmatic environmental impact statement (EIS) has been prepared by the Animal and Plant Health Inspection Service relative to our response activities to highly pathogenic avian influenza (HPAI) outbreaks in commercial and backyard poultry operations located throughout the United States, including the U.S. territories. The draft EIS analyzes and compares the potential environmental effects of using three action alternatives during an HPAI outbreak. This action will allow interested persons additional time to prepare and submit comments.

DATES: The comment period for the notice published on August 16, 2024 (89 FR 66668) is reopened. We will consider all comments that we receive on or before January 17, 2025.

ADDRESSES: You may submit comments by either of the following methods:

• Federal eRulemaking Portal: Go to www.regulations.gov. Enter APHIS-2022-0055 in the Search field. Select the Documents tab, then select the Comment button in the list of documents.

• Postal Mail/Commercial Delivery: Send your comment to Docket No. APHIS-2022-0055, Regulatory Analysis and Development, PPD, APHIS, Station 2C-10.16, 4700 River Road, Unit 25, Riverdale, MD 20737-1238.

Supporting documents and any comments we receive on this docket may be viewed at Regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Chelsea Bare, Chief of Staff, Veterinary Services, APHIS, U.S. Department of Agriculture, 1400 Independence Avenue SW, Whitten Building Room, 318-E, Washington, DC 20250; chelsea.j.bare@usda.gov; (515) 337-6128.

SUPPLEMENTARY INFORMATION:

On August 16, 2024, we published in the Federal Register (89 FR 66668-66669, Docket No. APHIS-2022-0055) ¹ a notice advising the public that a draft programmatic environmental impact statement (EIS) has been prepared by the Animal and Plant Health Inspection Service relative to our response activities to highly pathogenic avian influenza outbreaks in commercial and backyard poultry operations located throughout the United States, including the U.S. territories.

¹ To view the notice, go to www.regulations.gov and enter APHIS-2022-0055 in the Search field.

Comments on the draft EIS were required to be received on or before September 30, 2024. We are reopening the comment period on Docket No. APHIS-2022-0055 for an additional 14 days. This action will allow interested persons additional time to prepare and submit comments. We will also consider all comments received between October 1, 2024 (the day after the close of the original comment period) and the date of this notice.

Done in Washington, DC, this 23rd day of December 2024.
Donna Lalli,
Acting Administrator, Animal and Plant Health Inspection Service.

[FR Doc. 2024-31322 Filed 1-2-25; 8:45 am]

BILLING CODE 3410-34-P